DEPARTMENT OF THE INTERIOR

Fish and Wildlife Service

Notice of Area Closure to Off-Road Vehicles for Subsistence Use in Area Adjacent to King Cove Access Project, Izembek National Wildlife Refuge, AK

AGENCY: Fish and Wildlife Service, Interior.

ACTION: Notice of permanent closure.

SUMMARY: This notice advises the public that the Fish and Wildlife Service, Alaska Region, is permanently restricting off-road vehicles (ORVs) within a portion of the Izembek National Wildlife Refuge (Izembek Refuge) consistent with Federal law and regulations, Izembek Refuge management plans and objectives, and provisions of the King Cove Access Project Final Environmental Impact Statement (FEIS) published December 2003.

DATES: The effective date of this notice is November 1, 2006.

ADDRESSES: Sandra Siekaniec, Refuge Manager, Izembek National Wildlife Refuge, P.O. Box 127, Cold Bay, AK 99571.

FOR FURTHER INFORMATION CONTACT: Sandra Siekaniec, (877) 837-6332 or (907) 532-2445 phone; (907) 532-2549 fax; Sandra_Siekaniec@fws.gov e-mail.

SUPPLEMENTARY INFORMATION: This notice advises the public of a permanent closure to the use of off-road vehicles (ORVs) within an approximate 4-square-mile (10.4 km ²) area encompassing approximately 2,670 acres of the Izembek Refuge that has not traditionally been used for ORV access for subsistence purposes. We define off-road vehicle as any motor vehicle designed for or capable of cross-country travel on or immediately over land, water, sand, snow, ice, marsh, wetland, or other natural terrain, except snowmobiles as defined by regulation. This definition includes, but is not limited to, four-wheel-drive or low-pressure-tire vehicles, motorcycles, and related two-, three-, or four-wheel vehicles, amphibious machines, ground-effect or air-cushion vehicles, air-thrust boats, recreation vehicle campers, and any other means of transportation deriving motive power from any source other than muscle or wind (50 CFR 36.2).

The King Cove Access Project Final Environmental Impact Statement (FEIS), December 2003, proposed a marine-road link between the communities of King Cove and Cold Bay, including construction of a 17.2-mile (27.5-km) road along the east side of Cold Bay between the King Cove airstrip and a proposed Northeast Cold Bay hovercraft terminal. A 5.6-mile (9-km) portion of this road is being built on King Cove Corporation lands located within the legislative boundary of the Izembek Refuge. The proposed closure area is restricted to Izembek Refuge lands in portions of Sections 9 and 10 and Sections 15, 22, 27, and 34 in their entirety of Township 57 South, Range 87 West, Seward Meridian. We selected this area since it provides the minimum area for closure adjacent to the King Cove Access Project of lands currently managed by the Izembek Refuge under Section 906(o) of the Alaska National Interest Lands Conservation Act of 1980 (16 U.S.C. 410hh-3233) (ANILCA), which requires that Native-selected lands be managed as Refuge lands until conveyed. The FEIS directed that no road-related ORV access would occur within the Congressionally designated Wilderness Area of the Izembek Refuge and identified the need for mitigation measures where the road is within 1/2 mile (.8 km) of the Refuge boundary. Research has shown ORV use for subsistence did not traditionally occur either pre- or post-ANILCA on these lands due to the steep, rocky terrain and thick vegetation, so this limited closure will not change current use of the area.

We issue this notice of closure pursuant to 50 CFR 36.42(e), which describes the process to be followed in implementing permanent closures or restrictions on Alaska National Wildlife Refuges. We held public hearings explaining the proposed closure in Cold Bay and King Cove on May 2 and 3, 2005, respectively, followed by a 30-day public comment period. We held final closure hearings in Cold Bay and King Cove on August 23 and 24, 2005, respectively. We made available to the public maps delineating boundaries of the proposed closure and provided/posted news releases and public notices announcing public meetings and other details of the proposed closure to news media in local communities. Prior to closure implementation, we will post a cable barrier and signs in the immediate vicinity of the restricted area. Authorities for this action can be found within the National Wildlife Refuge System Administration Act of 1966, as amended by the National Wildlife Refuge System Improvement Act of 1997 (16 U.S.C. 668dd-668ee), the Refuge Recreation Act of 1962 (16 U.S.C. 460k, 460k-4), and ANILCA.

Notice of Permanent Closure

We close portions of Sections 9 and 10 and Sections 15, 22, 27, and 34 in their entirety of Township 57 South, Range 87 West, Seward Meridian, within the Izembek National Wildlife Refuge, to the use of off-road vehicles (ORVs) for subsistence purposes. For purposes of this closure we define ORVs in 50 CFR 36.2 (2005).

Dated: July 11, 2006.
E. Laverne Smith,
Acting Regional Director, U.S. Fish and Wildlife Service.

[FR Doc. E6-12416 Filed 8-4-06; 8:45 am]

BILLING CODE 4310-55-P